DEPARTMENT OF JUSTICE

Notice of Lodging of Consent Decree Pursuant to the Clean Water Act

On July 27, 2021, the Department of Justice lodged a proposed Second Amended Consent Decree (“Second ACD”) in the United States District Court for the Eastern District of Kentucky, Louisville Division in the lawsuit entitled Commonwealth of Kentucky and United States of America v. The Louisville and Jefferson County Metropolitan Sewer District (“MSD”), Civil Action No. 3:05-cv-00236-CRS.

A Consent Decree resolving the Plaintiffs' Clean Water Act (“CWA”) claims against MSD was entered by the Court in 2005. That Consent Decree was amended and the Amended Consent Decree was entered by this Court in 2009. The proposed Second ACD includes significant new work to enable MSD to meet the objectives of the CWA. The proposed Second ACD replaces and supersedes the 2009 Amended Consent Decree.

Under the proposed Second ACD, MSD is required to undertake critical infrastructure projects to ensure that the goals of the Clean Water Act are met. As a result of the greater priority and expense of this new work, the proposed Second ACD extends the deadlines for the few remaining projects required by the 2009 Amended Consent Decree. The proposed work required under the Second ACD is estimated to cost approximately $1.1 billion. While the longest extension to one of the remaining projects is eleven years, most of the work will be completed much sooner.

The publication of this notice opens a period for public comment on the Second ACD. Comments should be addressed to the Assistant Attorney General, Environment and Natural Resources Division, and should refer to the Commonwealth of Kentucky and United States of America v. The Louisville and Jefferson County Metropolitan Sewer District, the D.J. Ref. No. 90-5-1-1-08254. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amended Consent Decree may be examined and downloaded at this Justice Department website: http://www.usdoj.gov/enrd/Consent_Decrees.html. We will provide a paper copy of the Second ACD upon written request and payment of reproduction costs. Please mail your request and payment to: Consent Decree Library, U.S. DOJ—ENRD, P.O. Box 7611, Washington, DC 20044-7611.

Please enclose a check or money order for $15.25 (25 cents per page reproduction cost) payable to the United States Treasury for the Second ACD.

Lori Jonas,
Assistant Section Chief, Environmental Enforcement Section, Environment and Natural Resources Division.

[FR Doc. 2021-16626 Filed 8-3-21; 8:45 am]

BILLING CODE 4410-15-P